DEPARTMENT OF TRANSPORTATION

Federal Aviation Administration

Public Notice for Waiver of Aeronautical Land Use Assurance; Rogue Valley International-Medford Airport, Medford, Oregon

AGENCY: Federal Aviation Administration (FAA), DOT.

ACTION: Notice.

SUMMARY: Notice is being given that the FAA is considering a proposal from the County of Jackson Airport Director to change certain portions of the airport from aeronautical use to non-aeronautical use at Rogue Valley International-Medford Airport, Medford, Oregon. The proposal consists of portions of certain parcels on the northeast and southeast parts of the airfield.

DATES: Comments are due within 30 days of the date of the publication of this notice in the Federal Register. Emailed comments can be provided to Ms. Mandi M. Lesauis, Program Specialist, Seattle Airports District Office, mandi.lesauis@faa.gov.

FOR FURTHER INFORMATION CONTACT: Mr. Jerry Brienza, Airport Director, County of 1000 Terminal Loop Parkway, Medford, OR 97504; or Mandi M. Lesauis, Program Specialist, Seattle Airports District Office, 2200 S 216 St., Des Moines, WA 98198, mandi.lesauis@faa.gov, (206) 231-4140. Documents reflecting this FAA action may be reviewed at the above locations.

SUPPLEMENTARY INFORMATION: Under the provisions of Title 49, U.S.C. 47153(c), and 47107(h)(2), the FAA is considering a proposal from the Airport Director, County of Jackson, to change a portion of the Rogue Valley International-Medford Airport from aeronautical use to non-aeronautical use. The proposal consists of Area 2, on the east side of the airport (0.8 acres of Parcel 51, 0.62 acres of Parcel 52 and 0.5 acres of Parcel 53) and Area 3, on the west side of the airport (0.65 acres of Parcel 31, 0.34 acres of Parcel 32, 0.75 acres of Parcel 33, 0.9 acres of Parcel 34 and 0.8 acres of Parcel 35).

The partial parcels do not have airfield access. The proposed property will be developed for commercial purposes. The FAA concurs that the parcels are no longer needed for aeronautical purposes. The proposed use of this property is compatible with other airport operations in accordance with FAA's Policy and Procedures Concerning the Use of Airport Revenue, published in Federal Register on February 16, 1999.

Issued in Des Moines, Washington, on April 21, 2021.
Warren D. Ferrell,
Acting Manager, Seattle Airports District Office.

[FR Doc. 2021-08667 Filed 4-26-21; 8:45 am]

BILLING CODE 4910-13-P